DEPARTMENT OF ENERGY

Federal Energy Regulatory Commission

[Project No. 459-128]

Union Electric Company, d/b/a AmerenUE; Notice Soliciting Comments and Final Recommendations, Terms and Conditions, and Prescriptions

November 23, 2004.

Take notice that the following hydroelectric application and applicant-prepared environmental assessment has been filed with the Commission and is available for public inspection.

a. Type of Application: New major license.

b. Project No.: 459-128.

c. Date Filed: February 24, 2004.

d. Applicant: Union Electric Company (d/b/a AmerenUE).

e. Name of Project: Osage Hydroelectric Project.

f. Location: On the Osage River, in Benton, Camden, Miller and Morgan Counties, central Missouri. The project occupies 1.6 acres of Federal land.

g. Filed Pursuant to: Federal Power Act, 16 U.S.C. 791(a)-825(r).

h. Applicant Contact: Mr. Jerry Hogg, Superintendent Hydro Regulatory Compliance, AmerenUE, 617 River Road, Eldon, MO 65026; Telephone (573) 365-9315; e-mail jhogg@ameren.com.

i. FERC Contact: Allan Creamer at (202) 502-8365; or e-mail at allan.creamer@ferc.gov.

j. Deadline for filing comments and final recommendations, terms and conditions, and prescriptions is 60 days from the issuance of this notice; reply comments are due 105 days from the issuance date of this notice.

All documents (original and eight copies) should be filed with: Magalie R. Salas, Secretary, Federal Energy Regulatory Commission, 888 First Street, NE., Washington, DC 20426. Comments, recommendations, terms and conditions, and prescriptions may be filed electronically via the Internet in lieu of paper; see 18 CFR 385.2001(a)(1)(iii) and the instructions on the Commission's Web site (http://www.ferc.gov) under the “e-Filing” link. The Commission strongly encourages electronic filing.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing.

l. Project Description: The existing project consists of: (1) A 2,543-foot-long, 148-foot-high dam comprised of, from right to left, (i) a 1,181-foot-long, non-overflow section, (ii) a 520-foot-long gated spillway section, (iii) a 511-foot-long intake works and powerhouse section, and (iv) a 331-foot-long non-overflow section; (2) an impoundment (Lake of the Ozarks), approximately 93 miles in length, covering 54,000 acres at a normal full pool elevation of 660 feet mean sea level; (3) a powerhouse, integral with the dam, containing eight main generating units (172 MW) and two auxiliary units (2.1 MW each), having a total installed capacity of 176.2 MW; and (4) appurtenant facilities. The project generates an average of 636,397 megawatt-hours of electricity annually.

AmerenUE currently operates, and is proposing to continue to operate, the Osage Project as a peaking and load regulation facility. AmerenUE proposes to upgrade two of the facility's eight main generating units and the two smaller, auxiliary generating units. With the proposed upgraded units, energy generation is estimated to increase by about 5.6 percent. In addition to the physical plant upgrades, AmerenUE proposes a variety of environmental and recreation measures.

m. A copy of the application is available for review at the Commission in the Public Reference Room or may be viewed on the Commission's website at http://www.ferc.gov using the “eLibrary” link. Enter the docket number, excluding the last three digits in the docket number field (P-459), to access the document. For assistance, contact FERC Online Support at FERCOnlineSupport@ferc.gov or toll-free at 1-866-208-3676, or for TTY, (202) 502-8659. A copy is also available for inspection and reproduction at the address in item h above.

n. Anyone may submit comments on this application. In determining the appropriate action to take, the Commission will consider all comments filed. Comments must be received on or before the specified deadline date for comments identified in paragraph j above.

All filings must: (1) Bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the agency or other individual submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

You may also register online at http://www.ferc.gov/docs-filing/esubscription.asp to be notified via e-mail of new filings and issuances related to this or other pending projects. For assistance, contact FERC Online Support.

o. The revised tentative schedule for processing the application is as follows:

Milestone | Date
Deadline for Agency Recommendations | January 2005.
Deadline for Reply Comments | March 2005.
Issuance of EA | March/April 2005.
Public Comments on EA due | May/June 2005.
Ready for Commission Decision on the Application | November 2005.

Magalie R. Salas,
Secretary.

[FR Doc. E4-3396 Filed 11-30-04; 8:45 am]

BILLING CODE 6717-01-P